DEPARTMENT OF COMMERCE

International Trade Administration

[A-570-900]

Diamond Sawblades and Parts Thereof From the People's Republic of China: Final Results of Antidumping Duty Administrative Review; 2013-2014

AGENCY: Enforcement and Compliance, International Trade Administration, Department of Commerce.

SUMMARY: On December 4, 2015, the Department of Commerce (the Department) published the preliminary results of the administrative review of the antidumping duty order on diamond sawblades and parts thereof (diamond sawblades) from the People's Republic of China (the PRC). The period of review (POR) is November 1, 2013, through October 31, 2014. For the final results, we continue to find that certain companies covered by this review made sales of subject merchandise at less than normal value.

DATES: Effective Date: June 14, 2016

FOR FURTHER INFORMATION CONTACT: Yang Jin Chun or Bryan Hansen, AD/CVD Operations, Office I, Enforcement and Compliance, International Trade Administration, U.S. Department of Commerce, 1401 Constitution Avenue NW., Washington, DC 20230; telephone: (202) 482-5760 and (202) 482-3683, respectively.

SUPPLEMENTARY INFORMATION:

Background

On December 4, 2015, the Department published the preliminary results of the administrative review of the antidumping duty order on diamond sawblades from the PRC.¹ We received case and rebuttal briefs with respect to the Preliminary Results. As explained in the memorandum from the Acting Assistant Secretary for Enforcement and Compliance, the Department exercised its discretion to toll all administrative deadlines due to a closure of the Federal Government. All deadlines in this segment of the proceeding have been extended by four business days. The revised deadline for the final results of this review moved to April 8, 2016.² Subsequently, we fully extended the time for completing the final results of this administrative review to June 7, 2016.³ At the request of interested parties, we held a hearing on April 20, 2016. We conducted this administrative review in accordance with section 751 of the Tariff Act of 1930, as amended (the Act).

¹ See Diamond Sawblades and Parts Thereof From the People's Republic of China: Preliminary Results of Antidumping Duty Administrative Review; 2013-2014, 80 FR 75854 (December 4, 2015) (Preliminary Results), and accompanying Preliminary Decision Memorandum.

² See Memorandum for the Record from Acting Assistant Secretary Ron Lorenzen entitled “Tolling of Administrative Deadlines as a Result of the Government Closure during Snowstorm `Jonas'” dated January 27, 2016.

³ See Memorandum to Associate Deputy Assistant Secretary Gary Taverman entitled “Diamond Sawblades and Parts Thereof from the People's Republic of China: Extension of Deadline for Final Results of Antidumping Duty Administrative Review” dated March 23, 2016, and Memorandum to Deputy Assistant Secretary Christian Marsh entitled “Diamond Sawblades and Parts Thereof from the People's Republic of China: Full Extension of Deadline for Final Results of Antidumping Duty Administrative Review” dated May 18, 2016.

Scope of the Order

The merchandise subject to the order is diamond sawblades. The diamond sawblades subject to the order are currently classifiable under subheadings 8202 to 8206 of the Harmonized Tariff Schedule of the United States (HTSUS), and may also enter under 6804.21.00. The HTSUS subheadings are provided for convenience and customs purposes. A full description of the scope of the order is contained in the Issues and Decision Memorandum.⁴ The written description is dispositive.

⁴ See Memorandum from Deputy Assistant Secretary Christian Marsh to Assistant Secretary Paul Piquado entitled “Issues and Decision Memorandum for the Administrative Review of the Antidumping Duty Order on Diamond Sawblades and Parts Thereof from the People's Republic of China” dated June 7, 2016, (Issues and Decision Memorandum) and hereby adopted by this notice, at 4-5.

Analysis of Comments Received

All issues raised in the case and rebuttal briefs by parties to this administrative review are addressed in the Issues and Decision Memorandum. A list of the issues raised is attached to this notice as an appendix. The Issues and Decision Memorandum is a public document and is on file electronically via Enforcement and Compliance's Antidumping and Countervailing Duty Centralized Electronic Service System (ACCESS). Access to ACCESS is available to registered users at http://access.trade.gov. The Issues and Decision Memorandum is also available to all parties in the Central Records Unit, Room B8024 of the main Department of Commerce building. In addition, a complete version of the Issues and Decision Memorandum can be accessed directly on the Enforcement and Compliance Web site at http://enforcement.trade.gov/frn/index.html.

Final Determination of No Shipments

We preliminarily found that Danyang City Ou Di Ma Tools Co., Ltd., Danyang Tsunda Diamond Tools Co., Ltd., Hangzhou Kingburg Import & Export Co., Ltd., Qingdao Hyosung Diamond Tools Co., Ltd., Qingdao Shinhan Diamond Industrial Co., Ltd., and Shanghai Starcraft Tools Co., Ltd., which have been eligible for separate rates in previous segments of the proceeding and are subject to this review, did not have any reviewable entries of subject merchandise during the POR.⁵ After the Preliminary Results, we received no comments or additional information with respect to these six companies. Therefore, for the final results, we continue to find that these six companies did not have any reviewable entries of subject merchandise during the POR. Consistent with our practice, we will issue appropriate instructions to U.S. Customs and Border Protection (CBP) based on our final results.

⁵ See Preliminary Results, and accompanying Preliminary Decision Memorandum at 3-4.

Final Affiliation and Single Entity Determination

For the final results, we continue to find that Jiangsu Fengtai Diamond Tool Manufacture Co., Ltd., Jiangsu Fengtai Tools Co., Ltd., and Jiangsu Sawing Co., Ltd., are affiliated, pursuant to sections 771(33)(A) and (F) of the Act. Additionally, under 19 CFR 351.401(f)(1)-(2), we continue to find that these companies should be considered a single entity (collectively known as the Jiangsu Fengtai Single Entity).⁶

⁶ See Preliminary Results, and accompanying Preliminary Decision Memorandum at 4-6 for more details.

Changes Since the Preliminary Results

Based on our analysis of comments received, we made revisions that have changed the results for certain companies, including the valuation of certain factors of production and the PRC-wide rate. Additionally, we made calculation programming changes for the final results. For further details on the changes we made for these final results, see the company-specific analysis memoranda, the Issues and Decision Memorandum, and the final surrogate value memorandum, dated concurrently with this notice. Moreover, on May 11, 2016, in Diamond Sawblades Manufacturers' Coalition v. United States, Court No. 13-00168, the Court of International Trade affirmed a remand redetermination in which the Department determined it appropriate to reinstate the antidumping duty order on diamond sawblades from the PRC, in part, with respect to certain parts of the ATM Single Entity for which the Department previously had revoked the order, in part.⁷ Accordingly, the Department reinstated the order on diamond sawblades from the PRC, in part, with respect to these companies.⁸ As a result, all companies that the Department has found to constitute the ATM Single Entity are subject to this administrative review.⁹

⁷ The ATM Single Entity is comprised of Advanced Technology & Materials Co., Ltd., AT&M International Trading Co., Ltd., Beijing Gang Yan Diamond Products Co., Cliff International Ltd., and HXF Saw Co., Ltd. Concerning partial revocation of the antidumping duty order on diamond sawblades from the PRC, see Certain Frozen Warmwater Shrimp From the People's Republic of China and Diamond Sawblades and Parts Thereof From the People's Republic of China: Notice of Implementation of Determinations Under Section 129 of the Uruguay Round Agreements Act and Partial Revocation of the Antidumping Duty Orders, 78 FR 18958 (March 28, 2013); Diamond Sawblades Manufacturer's Coalition v. United States, Consol. Court No. 13-00168, Slip Op. 16-48 (CIT May 11, 2016).

⁸ See Diamond Sawblades And Parts Thereof from the People's Republic of China: Notice of Court Decision Not in Harmony With Final Determination Under Section 129 of the Uruguay Round Agreements Act and Reinstatement of Order, In Part, 81 FR 36519 (June 7, 2016).

⁹ Id. To the extent they do not demonstrate eligibility for a separate rate and no party has requested a review of the PRC-wide entity, there is no conditional review of the PRC-wide entity. See Antidumping Proceedings: Announcement of Change in Department Practice for Respondent Selection in Antidumping Duty Proceedings and Conditional Review of the Nonmarket Economy Entity in NME Antidumping Duty Proceedings, 78 FR 65963 (November 4, 2013), and Preliminary Results, 80 FR at 75854.

Final Results of the Review

As a result of this administrative review, we determine that the following weighted-average dumping margins exist for the period November 1, 2013, through October 31, 2014:

Company | Margin (percent)
Bosun Tools Co., Ltd | 29.76
Chengdu Huifeng Diamond Tools Co., Ltd | 29.76
Danyang Huachang Diamond Tools Manufacturing Co., Ltd | 29.76
Danyang NYCL Tools Manufacturing Co., Ltd | 29.76
Danyang Weiwang Tools Manufacturing Co., Ltd | 29.76
Guilin Tebon Superhard Material Co., Ltd | 29.76
Hangzhou Deer King Industrial and Trading Co., Ltd | 29.76
Hong Kong Hao Xin International Group Limited | 29.76
Huzhou Gu's Import & Export Co., Ltd | 29.76
Jiangsu Fengtai Single Entity ¹⁰ | 61.48
Jiangsu Huachang Tools Manufacturing Co., Ltd | 29.76
Jiangsu Inter-China Group Corporation ¹¹ | 29.76
Jiangsu Youhe Tool Manufacturer Co., Ltd | 29.76
Orient Gain International Limited | 29.76
Pantos Logistics (HK) Company Limited | 29.76
Qingyuan Shangtai Diamond Tools Co., Ltd | 29.76
Quanzhou Zhongzhi Diamond Tool Co., Ltd | 29.76
Rizhao Hein Saw Co., Ltd | 29.76
Saint-Gobain Abrasives (Shanghai) Co., Ltd | 29.76
Shanghai Jingquan Industrial Trade Co., Ltd | 29.76
Weihai Xiangguang Mechanical Industrial Co., Ltd | 21.67
Wuhan Wanbang Laser Diamond Tools Co | 29.76
Xiamen ZL Diamond Technology Co., Ltd | 29.76
Zhejiang Wanli Tools Group Co., Ltd | 29.76

Assessment

Pursuant to section 751(a)(2)(A) of the Act and 19 CFR 351.212(b), the Department shall determine, and CBP shall assess, antidumping duties on all appropriate entries covered by this review.¹² For customers or importers of the Jiangsu Fengtai Single Entity and Weihai Xiangguang Mechanical Industrial Co., Ltd. (Weihai) for which we do not have entered values, we calculated customer-/importer-specific antidumping duty assessment amounts based on the ratio of the total amount of dumping duties calculated for the examined sales of subject merchandise to the total sales quantity of those same sales.¹³ For a customer or importer of Weihai for which we received entered-value information, we have calculated a customer/importer-specific antidumping duty assessment rate based on customer-/importer-specific ad valorem rates in accordance with 19 CFR 351.212(b)(1).

¹⁰ For the final results, we continue to treat Jiangsu Fengtai Diamond Tool Manufacture Co., Ltd., Jiangsu Fengtai Tools Co., Ltd., and Jiangsu Sawing Co., Ltd., as a single entity. See Preliminary Results, 80 FR at 75854-55, and accompanying Preliminary Decision Memorandum at 4-6 for details.

¹¹ See Preliminary Results, 80 FR at 75855 n.15 for the name variation of this company.

¹² See 19 CFR 351.212(b)(1).

¹³ Id.

For all non-selected respondents that received a separate rate, we will instruct CBP to apply an antidumping duty assessment rate of 29.76 percent ¹⁴ to all entries of subject merchandise that entered the United States during the POR. For all other companies, with the exception of the ATM Single Entity, we will instruct CBP to apply the antidumping duty assessment rate of the PRC-wide entity, 82.05 percent, to all entries of subject merchandise exported by these companies.¹⁵

¹⁴ See Issues and Decision Memorandum at 5-6.

¹⁵ See Initiation Notice, 79 FR at 76957 (“All firms listed below that wish to qualify for separate rate status in the administrative reviews involving NME countries must complete, as appropriate, either a separate rate application or certification, as described below.”). Companies that are subject to this administrative review that are considered to be part of the PRC-wide entity are Central Iron and Steel Research Institute Group, China Iron and Steel Research Institute Group, Danyang Aurui Hardware Products Co., Ltd., Danyang Dida Diamond Tools Manufacturing Co., Ltd., Electrolux Construction Products (Xiamen) Co., Ltd., Fujian Quanzhou Wanlong Stone Co., Ltd., Hebei Jikai Industrial Group Co., Ltd., Huachang Diamond Tools Manufacturing Co., Ltd., Hua Da Superabrasive Tools Technology Co., Ltd., Jiangsu Fengyu Tools Co., Ltd., Jiangyin Likn Industry Co., Ltd., Protech Diamond Tools, Pujiang Talent Diamond Tools Co., Ltd., Quanzhou Shuangyang Diamond Tools Co., Ltd., Shanghai Deda Industry & Trading Co., Ltd., Shanghai Robtol Tool Manufacturing Co., Ltd., Shijiazhuang Global New Century Tools Co., Ltd., Sichuan Huili Tools Co., Task Tools & Abrasives, Wanli Tools Group, Wuxi Lianhua Superhard Material Tools Co., Ltd., Zhejiang Tea Import & Export Co., Ltd., Zhejiang Wanda Import and Export Co., Zhejiang Wanda Tools Group Corp., and Zhejiang Wanli Super-hard Materials Co., Ltd. Additionally, the ATM Single Entity (i.e., Advanced Technology & Materials Co., Ltd., AT&M International Trading Co., Ltd., Beijing Gang Yan Diamond Products Co., Cliff International Ltd., and HXF Saw Co., Ltd.) is part of the PRC-wide entity. See Issues and Decision Memorandum at 7 and 8 for more information concerning the ATM Single Entity as part of the PRC-wide entity and the effect of the Department's remand redetermination in Diamond Sawblades Manufacturer's Coalition v. United States, Consol. Court No. 13-00168, Slip Op. 16-48 (CIT May 11, 2016), which implicates entries of diamond sawblades from the PRC from the ATM Single Entity. A preliminary injunction issued by the Court of International Trade in Diamond Sawblades Manufacturers' Coalition v. United States, Court No. 13-00168, currently enjoins us from lifting suspension of liquidation for entries of subject merchandise produced and/or exported by the ATM Single Entity to the extent that such entries were made on or after March 22, 2013. See CBP Message Number 5238306 dated August 26, 2015, which is available at http://adcvd.cbp.dhs.gov/adcvdweb/ad_cvd_msgs/20287.

For entries that were not reported in the U.S. sales databases submitted by an exporter individually examined during this review, the Department will instruct CBP to liquidate such entries at the PRC-wide rate. In addition, for the six companies that we determined had no reviewable entries of the subject merchandise in this review period, any suspended entries that entered under that exporter's case number (i.e., at that exporter's rate) will be liquidated at the PRC-wide rate.

We intend to issue assessment instructions to CBP 15 days after the date of publication of the final results of review.

Cash Deposit Requirements

The following cash deposit requirements will be effective upon publication of these final results of review for all shipments of the subject merchandise from the PRC entered, or withdrawn from warehouse, for consumption on or after the publication date as provided by section 751(a)(2)(C) of the Act: (1) For subject merchandise exported by the companies listed above that have separate rates, the cash deposit rate will be the rate established in these final results of review for each exporter as listed above; (2) for previously investigated or reviewed PRC and non-PRC exporters not listed above that received a separate rate in a prior segment of this proceeding, the cash deposit rate will continue to be the exporter-specific rate; (3) for all PRC exporters of subject merchandise that have not been found to be entitled to a separate rate, the cash deposit rate will be that for the PRC-wide entity; (4) for all non-PRC exporters of subject merchandise which have not received their own rate, the cash deposit rate will be the rate applicable to the PRC exporter that supplied that non-PRC exporter. These deposit requirements shall remain in effect until further notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Administrative Protective Orders

This notice also serves as the only reminder to parties subject to administrative protective order (APO) of their responsibility concerning the return or destruction of proprietary information disclosed under APO in accordance with 19 CFR 351.305(a)(3). Timely written notification of the return or destruction of APO materials or conversion to judicial protective order is hereby requested. Failure to comply with the regulations and terms of an APO is a sanctionable violation.

These final results of review are issued and published in accordance with sections 751(a)(1) and 777(i) of the Act.

Dated: June 7, 2016.
Paul Piquado,
Assistant Secretary for Enforcement and Compliance.

Appendix

Summary

Background

Company Abbreviations

Other Abbreviations

Diamond Sawblades Administrative Determinations and Results

Scope of the Order

Surrogate Country

Separate Rates

Differential Pricing

ATM Single Entity

Discussion of the Issues

Respondent Selection

Value-Added Tax

Differential Pricing

Surrogate Values

Billing Adjustments

Reconstruction of Control Numbers

Rescission of Review in Part

Recommendation

[FR Doc. 2016-14047 Filed 6-13-16; 8:45 am]

BILLING CODE 3510-DS-P